DEPARTMENT OF DEFENSE

Department of the Army

32 CFR Part 630

RIN 0702-AA47

Absentee Deserter Apprehension Program and Surrender of Military Personnel to Civilian Authorities

AGENCY: Department of the Army, DoD.

ACTION: Final rule, removal.

SUMMARY: This action removes 32 CFR part 630 published in the Federal Register July 26, 1996 (61 FR 39073). The rule is being removed because it is now obsolete and does not affect the general public.

DATES: Effective December 21, 2004.

ADDRESSES: Headquarters, Department of the Army, Office of the Provost Marshal General, ATTN: DAPM-MPD-LE, 2800 Army Pentagon, Washington, DC 20310-2800.

FOR FURTHER INFORMATION CONTACT: Mr. Nate Evans, (703) 693-2126.

SUPPLEMENTARY INFORMATION: The Office of the Provost Marshal General (DAPM-MPD-LE), is the proponent for regulations in 32 CFR part 630, and has concluded this regulation is obsolete. This regulation has been extensively revised, and the revised regulation does not affect the general public. Therefore, it would be helpful in avoiding confusion with the public if 32 CFR part 630, is removed.

List of Subjects in 31 CFR Part 630

Absentee deserter apprehension program and surrender of military personnel to civilian authorities.

PART 630—[REMOVED]

Accordingly, for reasons stated in the preamble, under the authority of 10 U.S.C. 801 through 940; Manual for Courts-Martial, U.S. 2002 revised addition as amended; sec 709, Pub L. 96-154, Defense Appropriation Act. 93 Stat. 1153, 32 CFR Part 630, Absentee Deserter Apprehension Program and Surrender of Military Personnel to Civilian Authorities, is removed in its entirety.

Brenda S. Bowen,
Army Federal Register Liaison Officer.

[FR Doc. 04-27850 Filed 12-20-04; 8:45 am]

BILLING CODE 3710-08-M